DEPARTMENT OF STATE

[Public Notice 6866]

Shipping Coordinating Committee; Notice of Committee Meeting

The Shipping Coordinating Committee (SHC) will conduct an open meeting at 9:30 a.m. on Tuesday February 2, 2010, in Room 6103 of the United States Coast Guard Headquarters Building, 2100 Second Street, SW., Washington, DC 20593-0001. The primary purpose of the meeting is to prepare for the fourteenth Session of the International Maritime Organization (IMO) Subcommittee on Bulk Liquids and Gases (BLG) to be held at the IMO Headquarters, United Kingdom, from February 8 to February 12, 2010.

This announcement might appear in the Federal Register less than 15 days prior to the meeting. The Department of State finds that there is an exceptional circumstance, in that this advisory committee meeting must be held on February 2nd in order to prepare for the IMO Subcommittee meeting to be convened on February 8th.

The primary matters to be considered include:

—Adoption of the agenda.

—Decisions of other IMO bodies.

—Evaluation of safety and pollution hazards of chemicals and preparation of consequential amendments.

—Application of the requirements for the carriage of bio-fuels and bio-fuel blends.

—Development of guidelines and other documents for uniform implementation of the 2004 BWM Convention.

—Development of provisions for gas-fuelled ships.

—Casualty analysis.

—Consideration of IACS unified interpretations.

—Development of international measures for minimizing the transfer of invasive aquatic species through bio-fouling of ships.

—Revision of the IGC Code.

—Safety requirements for natural gas hydrate pellet carriers.

—Review of relevant non-mandatory instruments as a consequence of the amended MARPOL Annex VI and the NOX Technical Code.

—Revision of the Recommendations for entering enclosed spaces aboard ships.

—Work programme and agenda for BLG 15.

—Election of Chairman and Vice-Chairman for 2011.

—Any other business.

—Report to the Committees.

Members of the public may attend this meeting up to the seating capacity of the room. To facilitate the building security process, those who plan to attend should contact the meeting coordinator, Mr. Thomas Felleisen, by e-mail at Thomas.J.Felleisen@uscg.mil, by phone at (202) 372-1424, by fax at (202) 372-1926, or in writing at Commandant (CG-5223), U.S. Coast Guard, 2100 2nd Street, SW., Stop 7126, Washington, DC 20593-7126, not later than January 26, 2010, 7 days prior to the meeting. A member of the public requesting reasonable accommodation should also make such request prior to January 26, 2010. Requests made after January 26, 2010 might not be able to be accommodated. Please note that due to security considerations, two valid, government issued photo identifications must be presented to gain entrance to the Headquarters building.

The Headquarters building is accessible by taxi and privately owned conveyance (public transportation is not generally available). However, parking in the vicinity of the building is extremely limited. Additional information regarding this and other IMO SHC public meetings may be found at: http://www.uscg.mil/imo.

Dated: January 12, 2009.
Jon Trent Warner,
Executive Secretary, Shipping Coordinating Committee, Department of State.

[FR Doc. 2010-995 Filed 1-19-10; 8:45 am]

BILLING CODE 4710-09-P